DEPARTMENT OF JUSTICE

Drug Enforcement Administration

Importer of Controlled Substances; Notice of Registration

By Notice dated April 25, 2000, and published in the Federal Register on May 2, 2000, (65 FR 30615), Lipomed, Inc., One Broadway, Cambridge, Massachusetts 02142, made application to the Drug Enforcement Administration (DEA) to be registered as an importer of the basic classes of controlled substances listed below:

Drug | Schedule
Cathinone (1235) | I
Methaqualone (2565) | I
Lysergic acid diethylamide (7315) | I
Marihuana (7360) | I
Tetrahydrocannabinols (7370) | I
mescaline (7381) | I
3,4,5-Trimethoxyamphetamine (7390) | I
4-Bromo-2,5-dimethoxyamphetamine (7391) | I
4-Methyl-2,5-dimethoxyamphetamine (7395) | I
2,5-Dimethoxyamphetamine (7396) | I
2,5-Dimethoxy-4-ethylamphetamine (7399) | I
3,4-Methylenedioxyamphetamine (7400) | I
3,4-Methylenedioxy-N-ethylamphetamine (7404) | I
3,4-Methylenedioxymethamphetamine (7405) | I
Psilocybin (7437) | I
Psilocyn (7438) | I
Acetyldihydrocodeine (9051) | I
Dihydromorphine (9145) | I
Heroin (9200) | I
Tilidine (9750) | I
Amphetamine (1100) | II
Methamphetamine (1105) | II
Amobarbital (2125) | II
Secobarbital (2315) | II
Phencyclidine (7471) | II
Cocaine (9041) | II
Codeine (9050) | II
Dihydrocodeine (9120) | II
oxycodone (9143) | II
Hydromorphone (9150) | II
Benzoylecgonine (9180) | II
Hyddrocodone (9193) | II
Levorphanol (9220) | II
Methadone (9250) | II
Dextropropoxyphene, bulk (non-dosage forms) (9273) | II
Morphine (9300) | II
Thebaine (9333) | II
oxymorphone (9652) | II
Alfentanil (9737) | II
Fentanyl (9801) | II

The firm plans to import small reference standard quantities of finished commercial product from its sister company in Switzerland for sale to its customers for drug testing and pharmaceutical research and development.

No comments or objections have been received. DEA has considered the factors in title 21, United States Code, section 823(a) and determined that the registration of Lipomed, Inc. to import the listed controlled substances is consistent with the public interest and with United States obligations under international treaties, conventions, or protocols in effect on May 1, 1971, at this time. DEA has investigated Lipomed, Inc. on a regular basis to ensure that the company's continued registration is consistent with the public interest. These investigations have included inspection and testing of the company's physical security systems, audits of the company's records, verification of the company's compliance with state and local laws, and a review of the company's background and history. Therefore, pursuant to section 1008(a) of the Controlled Substances Import and Export Act and in accordance with title 21, Code of Federal Regulations, section 1311.42, the above firm is granted registration as an importer of the basic classes of controlled substances listed above.

Dated: November 6, 2000.
John H. King,
Deputy Assistant Administrator, Office of Diversion Control, Drug Enforcement Administration.

[FR Doc. 00-30290 Filed 11-27-00; 8:45 am]

BILLING CODE 4410-09-M